DEPARTMENT OF HEALTH AND HUMAN SERVICES

Administration for Children and Families

Proposed Information Collection Activity; Comment Request

Title: Evaluation of Tribal Health Profession Opportunity Grants (HPOG).

OMB No.: 0970-0395.

Description: The Administration for Children and Families (ACF), U.S. Department of Health and Human Services (HHS), is proposing to continue information collection activities as part of the Evaluation of the Tribal Health Profession Opportunity Grants (HPOG). These information collection activities were approved by OMB in October 2011 for a three-year period (OMB clearance number 0970-0395). ACF is requesting a one-year extension of these activities. Through the extension of the information collection, ACF seeks to continue a comprehensive process and outcome evaluation to provide documentation and lessons learned about diverse programmatic approaches to health professions trainings for Tribal populations.

The goals of the Tribal HPOG evaluation are to: (1) Provide an in-depth, systematic analysis of program structure, implementation, and outcomes of the sites served by the five Tribal HPOG grantees funded in FY 2010, and (2) compare these data within and across grantees to generate hypotheses about the effectiveness of different program approaches for Tribal populations. These goals require collecting information from Tribal HPOG grantees and other program stakeholders on an annual basis. The information collection activities include in-person and telephone interviews and focus groups. A one-year extension of these activities will allow the evaluation to gather data from the grantees through the end of their grant period. Program operations data related to this effort will continue to be collected through a web-based performance management system under a separate information collection (OMB clearance number 0970-0394).

This Federal Register Notice provides the opportunity to comment on a proposed information collection activity for the evaluation of Tribal HPOG. All instruments included in this request have been previously approved. The burden represents continuing data collection into this period.

Respondents: Grantee and Partner Administrative Staff interview: Administrators of the Tribal HPOG program, workforce development, and TANF agencies; public and private university-based partners; and not-for profit organizations.

Program Implementation Staff interview: Instructors, trainers, and providers of program or supportive services.

Program Participant focus groups: Current program participants.

Employers interview: Local or regional employers at public or private companies or organizations that are partnering with the Tribal HPOG program or have employed program participants.

Program Completers interview: Program completers.

Program Non-completers interview: Individuals who did not complete the programs.

Annual Burden Estimates

The current information collection request is for a one-year period.

Instrument | Annual number of respondents | Number of responses per respondent | Average burden hours per response | Annual burden hours
New Burden for Previously Approved Instruments
Grantee and partner administrative staff interview | 35 | 1 | 1 | 35
Program implementation staff interview | 120 | 1 | 1.5 | 180
Program participant focus groups | 108 | 1 | 1.5 | 162
Employer interview | 60 | 1 | .75 | 45
Program completers interview | 67 | 1 | 1 | 67
Program non-completers interview | 20 | 1 | .30 | 6

Estimated Total Annual Burden Hours: 495.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance Officer.

[FR Doc. 2014-13871 Filed 6-12-14; 8:45 am]

BILLING CODE 4184-01-P